CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Mr. Mark Abbott, at (202) 606-5000, extension 120, (mabbott@cns.gov); (TTY/TDD) at (202) 606-5256 between the hours of 9 a.m. and 4 p.m. Eastern Standard Time, Monday through Friday.

Comments may be submitted, identified by the title of the information collection activity, by any of the the following two methods within 30 days from the date of publication in this Federal Register:

(1) By fax to: (202) 395-6974, Attention: Ms. Fumie Yokota, OMB Desk Officer for the Corporation for National and Community Service; and

(2) Electronically by e-mail to: Fumie_Yokota@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description: The Corporation for National and Community Service (the Corporation) awards federal grants to states, institutions of higher education, non-profit organizations, Indian tribes and U.S. territories to operate national service programs. The Corporation is obligated by statute to monitor grantee compliance with the appropriate Federal Statues, Regulations and OBM circulars. The information requested in this biannual report will be the primary means for collecting data on both grantee fiscal/programmatic compliance and progress towards meeting the performance measures specified in the grant awards. For statutory authority, please see the National and Community Service Act of 1990, as amended.

Information provided in the Performance Reports will be used by Learn and Serve America to ensure grantees are making adequate progress towards meeting performance measures, and that activities are appropriate under the terms and conditions of the grant award. This information will also be used to help determine eligibility for second and third year Continuation Grants, which are available to Learn and Serve America grantees subject to funding availability and adequate progress towards meeting performance measures.

This report will also track the grantees' sub-grants, allowing the Corporation the ability in the future to collect important performance data at the subgrantee level (a request to collect subgrantee information is forthcoming in a separate OMB Paperwork Reduction Act submission). Systematic review and a risk-based assessment of each Performance Report will be conducted by the appropriate Learn and Serve America Program officer within 30 days of receipt of the reports.

Currently, the Corporation is soliciting comments concerning Learn and Serve Aamerica Grantee Performance Report.

Type of Review: New.

Agency: Corporation for National and Community Service.

Title: Learn and Serve America Grantee Performance Report.

OMB Number: None.

Agency Number: None.

Affected Public: Current LSA Grantees.

Total Respondents: 133.

Frequency: Twice per year.

Average Time Per Response: 2 hours.

Estimated Total Burden Hours: 532 hours.

Total Burden Cost (capital/startup): None.

Total Burden Cost (operating/maintenance): None.

Dated: February 4, 2004.
Amy B. Cohen,
Director, Learn and Serve America.

[FR Doc. 04-2963 Filed 2-10-04; 8:45 am]

BILLING CODE 6050-$$-P